NATIONAL ARCHIVES AND RECORDS ADMINISTRATION

[NARA-2014-033]

Office of Government Information Services (OGIS), Freedom of Information Act Advisory Committee Meeting

AGENCY: National Archives and Records Administration.

ACTION: Notice of meeting.

SUMMARY: In accordance with the Federal Advisory Committee Act (5 U.S.C. app 2) and the second United States Open Government National Action Plan (NAP) released on December 5, 2013, NARA announces the following committee meeting to discuss improvements to the administration of FOIA and its policy matters.

DATES: The meeting is on June 24, 2014, from 10 a.m. to 1 p.m.

ADDRESSES: National Archives and Records Administration; 700 Pennsylvania Avenue NW., Archivist's Board Room, Washington, DC 20408.

SUPPLEMENTARY INFORMATION: This meeting will be open to the public. However, due to space limitations and access procedures, individuals planning to attend must submit their name, email, and telephone number to the Office of Government Information Services (OGIS) no later than Tuesday, June 10, 2014. OGIS will call or email with additional instructions for access to the meeting, and will provide updates on the OGIS blog post.

FOR FURTHER INFORMATION CONTACT: Christa Lemelin, Designated Federal Officer for this committee, at NARA/OGIS, 800 N. Capital Street NW., Washington, DC 20007; by telephone at (202) 741-5773; or by email at Christa.Lemelin@nara.gov. You may also contact OGIS at OGIS@NARA.gov.

Dated: May 21, 2014.
Patrice Little Murray,
Acting Committee Management Officer.

[FR Doc. 2014-12146 Filed 5-23-14; 8:45 am]

BILLING CODE 7515-01-P